DEPARTMENT OF HEALTH AND HUMAN SERVICES

Notice of Meeting of the Presidential Advisory Council on HIV/AIDS

January 29, 2002.

Pursuant to Pub. L. 92-463, notice is hereby given of the meeting of the Presidential Advisory Council on HIV/AIDS (Council) scheduled for March 14-15, 2002, at the White House Conference Center at 726 Jackson Place NW. The Council will meet both days from 9 am until 5 pm. The meetings will be open to the public, however space may be limited. Possible attendees are strongly encouraged to pre-register by calling Shellie Abramson at (202) 860-8863.

Patricia Ware, Executive Director, Presidential Advisory Council on HIV and AIDS, 200 Independence Avenue, SW., Room 733-E, Washington, DC., (Voice-mail: (202) 205-2982, Fax: (202) 690-7560) will furnish the meeting agenda and roster of committee members upon request. Once a draft agenda has been finalized, it may also be accessed through the Council's website: www.pacha.gov. Any individual who requires special assistance, such as sign language interpretation or other reasonable accommodations, should contact Mike Starkweather at (301) 628-3141 no later than March 1, 2001.

Patricia Ware,
Executive Director, Presidential Advisory Council on HIV and AIDS.

[FR Doc. 02-2910 Filed 2-6-02; 8:45 am]

BILLING CODE 3195-01-M